DEPARTMENT OF JUSTICE

Notice of Lodging of Consent Judgment Pursuant to Clean Air Act

Notice is hereby given that on December 1, 2003, a proposed Consent Judgment in United States v. The New York City Transit Authority, Civil Action No. CV-97-7521, was lodged with the United States District Court for the Eastern District of New York.

The proposed Consent Judgment will resolve the United States' claims under section 113 of the Clean Air Act, 42 U.S.C. 7413, on behalf of the U.S. Environmental Protection Agency against defendant New York City Transit Authority (“TA”) in connection with the TA's renovation of six subway stations in Brooklyn and Queens, New York. According to the complaint, asbestos-containing material was improperly removed during the renovation of six subway stations in Brooklyn and Queens, New York. The Consent Judgment requires the TA to pay $300,000 in civil penalties and enjoins the TA from committing violations of the Clean Air Act and the National Emission Standards for Hazardous Air Pollutants for Asbestos, 40 CFR part 61, subpart M.

The Department of Justice will receive for a period of thirty (30) days from the date of this publication comments relating to the proposed Consent Judgment. Comments should be addressed to the Assistant Attorney General of the Environment and Natural Resources Division, Department of Justice, Washington, DC 20530, and should refer to United States v. The New York City Transit Authority, Civil Action No. CV-97-7521, D.J. Ref. 90-5-2-1-2135.

The proposed Consent Judgment may be examined at the Office of the United States Attorney, Eastern District of New York, One Pierrepoint Plaza, 14th Fl., Brooklyn, New York 11201, and at the United States Environmental Protection Agency, Region, II, 290 Broadway, New York, New York 10007-1866. During the public comment period, the proposed Consent Judgment may also be examined on the following Department of Justice Web site, http://www.usdoj.gov/enrd/open.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Judgment, please so note and enclose a check in the amount of $3.00 (25 cent per page reproduction cost) payable to the U.S. Treasury.

Ronald Gluck,
Assistant Section Chief, Environmental Enforcement Section, Environment and Natural Resources Division.

[FR Doc. 03-31151 Filed 12-17-03; 8:45 am]

BILLING CODE 4410-15-M